DEPARTMENT OF VETERANS AFFAIRS

Disruption of Mail Service

October 18, 2005.

agency: Department of Veterans Affairs.

ACTION: Notice of exception to date of receipt.

SUMMARY: On August 29, 2005, Hurricane Katrina came through the states of Louisiana, Mississippi, and Alabama. As a result, operations at the Department of Veterans Affairs (VA) Regional Offices in New Orleans, Louisiana, and Jackson, Mississippi, were interrupted. Additionally, postal services in the affected regions have been interrupted. As a result of the interruptions, correspondence containing claims, information, or evidence sent to the affected VA Regional Offices is likely to be interrupted. VA wishes to protect the claimants who send correspondence to the Veterans Benefits Administration (VBA) through the normal channels of communication from being deprived of benefits solely because those channels of communication have been disrupted due to events outside of the claimants' control. Therefore, VA is instituting procedures to consider alternative dates as the date of receipt of correspondence.

FOR FURTHER INFORMATION CONTACT: Maya Ferrandino, Consultant, Compensation and Pension Service, Policy and Regulations Staff (211D), Veterans Benefits Administration, Department of Veterans Affairs, 810 Vermont Avenue, NW., Washington, DC 20420, (202) 273-7211.

SUPPLEMENTARY INFORMATION: A VA regulation allows the Under Secretary for Benefits to establish exceptions to VA's rule about date of receipt of claims, information, or evidence. Ordinarily, “date of receipt,” means the date on which a claim, information, or evidence was received in a VA office. The regulation states that exceptions may be established when a natural or man-made interference with the normal channels through which VA ordinarily receives correspondence has resulted in one or more VA Regional Offices experiencing extended delays in receipt of claims, information, or evidence to an extent that, if not addressed, would adversely affect such claimants through no fault of their own. The full regulation can be found at 38 CFR 3.1(r).

On August 29, 2005, Hurricane Katrina came through the states of Louisiana, Mississippi, and Alabama. As a result, operations at VA's Regional Offices in New Orleans, Louisiana, and Jackson, Mississippi, were interrupted. Additionally, postal services in the affected regions, including parts of Alabama, have been interrupted.

As a result of the interruptions, correspondence containing claims, information, or evidence sent to the affected VA Regional Offices has been significantly interrupted. Because the New Orleans Regional Office was closed, VA established that mail addressed there would be forwarded by the U.S. Postal Service to the Muskogee Regional Office in Oklahoma. In addition, claimants and beneficiaries in Louisiana have been instructed to send their correspondence to the Muskogee Regional Office.

VA wishes to prevent claimants and beneficiaries who send correspondence to VA from being deprived of benefits because the mail service has been disrupted due to events outside of their control. We have therefore established the following exceptions to the standard rule on date of receipt.

Exceptions to Date of Receipt for Louisiana, Mississippi, and Alabama

The Department of Veterans Affairs (VA) hereby gives notice that for purposes of determining the date of entitlement, any correspondence received by the New Orleans Regional Office (or by the Muskogee Regional Office from Louisiana), the Jackson Regional Office, or the Montgomery Regional Office, which contains claims, information, or evidence will be considered received on the date the claimant or beneficiary (or representative) signed the correspondence. If there is no dated signature on the correspondence, then the correspondence will be considered received on the date it was postmarked.

This exception is effective for correspondence received by the New Orleans Regional Office (or by the Muskogee Regional Office from Louisiana) from August 29, 2005 through October 27, 2005.

This exception is effective for correspondence received by the Jackson Regional Office or the Montgomery Regional Office from August 29, 2005 through September 27, 2005.

Approved: October 17, 2005.
R. James Nicholson,
Secretary of Veterans Affairs.

[FR Doc. E5-5851 Filed 10-21-05; 8:45 am]

BILLING CODE 8320-01-P